DEPARTMENT OF TRANSPORTATION

National Highway Traffic Safety Administration

[Docket No. NHTSA-2016-0091]

Proposed Information Collection Submitted to the Office of Management and Budget; Request for Comments

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on September 20, 2016 (81 FR 65709).

DATES: Comments must be submitted on or before January 18, 2017.

ADDRESSES: Send comments regarding the burden estimate, including suggestions for reducing the burden, to the Office of Management and Budget, Attention: NHTSA Desk Officer, 725 17th Street NW., Washington, DC 20503.

Comments are invited on the following:

i. Whether the proposed collection of information is necessary for the proper performance of the functions of the Department, including whether the information will have practical utility;

ii. The accuracy of the Department's estimate of the burden of the proposed information collection;

iii. Ways to enhance the quality, utility and clarity of the information to be collected; and

iv. Ways to minimize the burden of the collection of information on respondents, including the use of automated collection techniques or other forms of information technology.

FOR FURTHER INFORMATION CONTACT: Ms. Yvonne Clarke, NHTSA, 1200 New Jersey Avenue SE., Washington, DC 20590; Telephone (202) 366-1845; Facsimile: (202) 366-2106; email address: Yvonne.e.clarke@dot.gov.

For access to the docket to read background documents, go to http://www.regulations.gov or the street address listed above. Follow the online instructions for accessing the dockets.

SUPPLEMENTARY INFORMATION:

Title: Vehicle Performance Guidance.

OMB Control Number: Not assigned.

Type of Request: New Information Collection.

Abstract: On September 20, 2016, the Department of Transportation published its Federal Automated Vehicles Policy. Recognizing the potential that highly automated vehicles (HAVs) have to enhance safety and mobility, the Federal Automated Vehicles Policy sets out an approach to enable the safe deployment of L2 and HAV systems. An HAV system is defined as one that corresponds to Conditional (Level 3), High (Level 4), and Full (Level 5) Automation, as defined in SAE J3016. HAV systems rely on the automation system (not on a human driver) to monitor the driving environment for at least certain aspects of the driving task. An L2 system, also described in SAE J3016, is different because the human driver is never relieved of the responsibility to monitor the driving environment.

The speed with which increasingly complex L2 and HAV systems are evolving challenges DOT and NHTSA to take approaches that ensure these technologies are safely introduced, provide safety benefits today, and achieve their full safety potential in the future. Consistent with its statutory purpose to reduce traffic accidents and deaths and injuries resulting from traffic accidents, NHTSA seeks to collect from, and recommend the recordkeeping and disclosure of information by vehicle manufacturers and other entities as described in Federal Automated Vehicles Policy. Specifically, NHTSA's recommendations in the policy section titled “Vehicle Performance Guidance for Automated Vehicles” (hereafter referred to as “Guidance”) are the subject of this voluntary information collection request. This Guidance outlines recommended best practices, many of which should be commonplace in the industry, for the safe pre-deployment design, development, and testing of HAV and L2 systems prior to commercial sale or operation on public roads. Further, the Guidance identifies key areas to be addressed by manufacturers and other entities prior to testing or deploying HAV or L2 systems on public roadways.

To assist NHTSA and the public in evaluating how safety is being addressed by manufacturers and other entities developing and testing HAV and L2 systems, NHTSA is recommending the following documentation, recordkeeping, and disclosures that aid in that mission. The burden estimates contained in this notice are based on the Agency's present understanding of the HAV and L2 systems market. NHTSA seeks comment on the burden estimates in this notice in whole or in part.

Currently NHTSA expects up to approximately 45 OEMS and other entities producing level 3 through 5 vehicles or features will choose to voluntarily comply with the guidance set forth in the Federal Automated Vehicle Policy. The agency also expects that up to 45 manufacturers and other entities who are currently supplying level 2 functionality to voluntarily comply with the guidance. The estimated cost for complying with this regulation is $100 per hour. Therefore, the total annual cost is estimated to be $13,605,000 (time burden of 136,050 hours × $100 cost per hour).

Affected Public: Business or other for profit.

Estimated Number of Respondents: 90.

Estimated Number of Responses: 90.

Annual Estimated Total Annual Burden Hours: 136,050 hrs.

Frequency of Collection: Annual.

On September 20, 2016, NHTSA published a notice announcing the proposed collection of information pursuant to 44 U.S.C. 3501 et seq. and providing a 60-day comment period (81 FR 65709). . The Agency received 11 comments on this notice from the general public, five of these commenters provided general comments on the Federal Automated Vehicles Policy (the Policy). The remaining commenters (Daimler Trucks North America, the Alliance of Automobile Manufacturers, Inc., Association of Global Automakers, Inc., Motor and Equipment Manufacturers Association (MEMA), Truck and Engine Manufacturers Association (EMA), and the Insurance Institute for Highway Safety (IIHS)) had comments that were responsive to the 60-Day notice. The Agency also received a number of substantive comments pertaining to the ICR as part of the overall general comments on the Policy (Docket # NHTSA-2016-0090). In general these comments were reflected in the specific comments received on the 60-Day Notice.

These comments can be grouped into the following categories:

1. Comments regarding the burden of voluntarily responding to the 15 point Safety Assessment

2. Comments regarding the burden hours imposed by the guidance (e.g. documentation related to the 15 point Safety Assessment) contained in the Federal Automated Vehicles Policy

3. Comments regarding the scope of the Safety Assessment Letter

4. Comments regarding submitting Safety Assessment Letters for test vehicles

5. Comments regarding submitting Safety Assessment Letters for vehicles meeting SAE International (SAE) Level 2 automation

It is important to note that the Federal Automated Vehicles Policy was effective on September 23, 2016, and is intended to be updated on an annual basis. Therefore the burden hours outlined in the 60-Day notice and this subsequent 30 Day notice are reflective of that version of the policy. Comments which suggested changes to the scope of the Safety Assessment Letter, removal of test vehicles and SAE Level 2 vehicles from the Policy, and similar comments are addressed in the supporting document. Additionally, the agency has provided and will continue to provide clarifications to the policy on its Web site.

The remaining comments regarding the burden of voluntarily submitting a Safety Assessment Letter and the burden of following the guidance contained inside the Policy can be summed up as “NHTSA has underestimated the burden of following its policy.” However, none of the commenters offered substantive information regarding the specific details of the Agency's underestimation of the burden in following the Policy's Guidance. In light of these comments, NHTSA has reevaluated its analysis of the burden hours and looked to voluntary industry standards such as the International Organization for Standardization's (ISO) 26262—Road vehicles—Functional safety, SAE J3061—Cybersecurity Guidebook for Cyber-Physical Vehicle Systems, and NHTSA's own experience with safety defect investigations as it relates to record keeping by companies. Based on this analysis and the Agency's observation that the Policy is not suggesting new documentation procedures, we have not made any adjustments to the burden hours . . .

Authority: The Paperwork Reduction Act of 1995; 44 U.S.C. Chapter 35, as amended; and 49 CFR 1.95.

Nathaniel Beuse,
Associate Administrator for Vehicle Safety Research, National Highway Traffic Safety Administration.

[FR Doc. 2016-30479 Filed 12-16-16; 8:45 am]

BILLING CODE 4910-59-P